DEPARTMENT OF THE INTERIOR

Bureau of Indian Affairs

[245A2100DD/AAKC001030/A0A501010.999900]

Mission Valley Power Project, Montana—Power Rate Adjustment

AGENCY: Bureau of Indian Affairs, Interior.

ACTION: Notice of proposed rate adjustment.

SUMMARY: The Bureau of Indian Affairs (BIA) proposes to adjust electric power rates for the Mission Valley Power Project (MVP). We are required to establish rates to recover the costs to administer, operate, maintain, and rehabilitate the MVP. We request your comments on the proposed rate adjustments.

DATES: Interested parties may submit comments on the proposed rate adjustments on or before December 16, 2024.

ADDRESSES: All comments on the proposed rate adjustments must be in writing. You may send comments via email to comments@bia.gov. Please reference “Rate Adjustment for MVP Project” in the subject line. Or you may submit comments to: Program Specialist, Division of Water and Power, Office of Trust Services, 2021 4th Avenue North, Billings, MT 59101.

FOR FURTHER INFORMATION CONTACT: Mr. Shane Hendrickson, Flathead Agency Superintendent, Bureau of Indian Affairs, P.O. Box 40, Pablo, Montana 59855, (406) 675-2700, Ext. 1301. Individuals in the United States who are deaf, deafblind, hard of hearing, or have a speech disability may dial 711 (TTY, TDD, or TeleBraille) to access telecommunications relay services.

SUPPLEMENTARY INFORMATION: The table in this notice provides current and proposed electric power rates for 2024, 2025, and 2026.

What is the meaning of key terms used in this notice?

BIA means the Bureau of Indian Affairs within the United States Department of the Interior or the BIA's authorized representative.

Bill means our written statement notifying you of the charges and/or fees you owe the United States for the administration, operation, maintenance, rehabilitation, and/or construction of the electric power utility servicing you.

CFR means Code of Federal Regulations.

Customer means any person or entity to whom we provide service.

Customer service is the assistance or service provided to customers, except for the actual delivery of electric power or energy. Customer service may include line extension, system upgrade, meter testing, connections or disconnection, special meter reading, or other assistance or service as provided in the utility's Operations Manual.

Day(s) means calendar day(s).

Demand is measured in kilowatts by the utility's meter and represents the rate at which electricity is consumed in a fifteen-minute period of maximum use.

Electric power means the energy we deliver to meet customers' electrical needs.

Electric power rate means the charges we establish for delivery of energy to our customers, which includes administration costs and operation and maintenance costs in addition to the cost of purchased power.

Electric power utility means all structures, equipment, components, and human resources necessary for the delivery of electric service.

Electric service means the delivery of electric power by our utility to our customers.

Energy means electric power.

Fee (see Service fee).

I, me, my, you, and your means all interested parties, especially persons or entities to which we provide service and receive use of our electric power service.

Must means an imperative or mandatory act or requirement.

Purchased power means the power we must purchase from power marketing providers for resale to our customers to meet changing power demands. Each of our utilities establishes its own power purchasing agreements based on its power demands and firm power availability.

Rate (see Electric power rate).

Reserve Funds means funds held in reserve for maintenance, repairs, or unexpected expenses.

Revenue means the monies we collect from our customers through service fees and electric power rates.

Service (see Electric service).

Service fee means our charge for providing or performing a specific administrative or customer service.

Utility(ies) see (Electric power utility).

We, us, and our means the United States Government, the Secretary of the Interior, the BIA, and all who are authorized to represent us in matters covered under this notice.

Does this notice affect me?

This notice affects you if we provide you electric service. MVP is a federally-owned power utility, operated and maintained by the Confederated Salish and Kootenai Tribes through a contract pursuant to the Indian Self-Determination and Education Assistance Act of 1975, Public Law 93-638, 25 U.S.C. 5301 et seq. (formerly codified at 25 U.S.C. 450 et seq.). MVP provides service to customers located within the Flathead Indian Reservation and to areas in Flathead, Lake, Missoula, and Sanders counties in Montana. MVP provides power for residential, governmental, irrigation, commercial, and industrial uses.

Where can I get information on the regulatory and legal citations in this notice?

You can contact us using the addresses provided at the beginning of this notice, or you can use the internet site for the Government Printing Office at http://www.gpo.gov.

Why are you publishing this notice?

We are publishing this notice to inform you that we propose to adjust our electric power rates. This notice is published in accordance with BIA's regulations governing its operation and maintenance of power projects, found at 25 CFR part 175. This regulation provides for the establishment and publication of rates for electric power assessments as well as related information about our power projects.

What authorizes you to issue this notice?

Our authority to issue this notice is vested in the Secretary of the Interior by 5 U.S.C. 301; 25 U.S.C. 13; 25 U.S.C. 385c; Act of March 7, 1928 (45 Stat. 212-213), as amended; Act of May 25, 1948, Public Law 554 (62 Stat. 269-273), as amended; Act of August 31, 1951 (65 Stat. 248); Act of December 23, 1981, section 112 (95 Stat. 1404). The Secretary has in turn delegated this authority to the Assistant Secretary—Indian Affairs under part 209, chapter 8.1A, of the Department of the Interior's Departmental Manual.

How do you calculate electric power rates?

We calculate electric power rates by estimating the costs of energy delivery to our customers, which includes administration costs and operation and maintenance costs in addition to the cost of purchased power. Operation and maintenance costs include maintenance of a reserve fund to make repairs and replacements to the utility, defray emergency expenses, ensure the continuous operation of the power system, and pay other allowable expenses and obligations to the extent required or permitted by law. The result of this calculation is stated in the rate table in this notice.

How do we know how much rate increase is needed?

We completed a review of MVP's rates in accordance with 25 CFR 175.205 to: (a) determine if our financial requirements are being met to ensure the reliable operation of the utility; and (b) determine if revenues are sufficient to meet our statutory requirements. We have determined a rate increase is needed to ensure MVP can pay its expenses and ensure continuous operation of the power system.

When will you put the rate adjustments into effect?

Interested parties have an opportunity to provide comments, and they will be considered before proposed rate adjustments go into effect. We plan to put the 2024 rate adjustment into effect this fall. The 2025 rate adjustment will be effective March 1, 2025. The 2026 rate adjustment will be effective March 1, 2026.

Will any additional monthly rates apply?

We may add a purchased power cost adjustment to certain categories in the below table. This adjustment is the amount (rounded to the nearest $0.0001) that MVP pays to its power suppliers. When MVP experiences unforeseen increases in the cost of purchased power, we may adjust the existing electric power rate and put it into effect immediately. MVP will publish the purchased power changes in the local newspaper and adjust the purchased power component of your bill accordingly. Such changes are not included in the procedure for adjusting electric power rates because unforeseen increases in the cost of purchased power are: (a) not under our control; (b) determined by current market rates; and (c) subject to market fluctuations that can occur at an undetermined time and frequency.

Are there restrictions on my use of power?

You must use any power that we supply you only on your property. You may not resell any power that we supply to you.

What if I have more than one meter?

If you have more than one meter, we will calculate a separate bill for each meter.

When should I pay my power bill?

We will mail or email your bill notifying you (a) the amount you owe to the United States and (b) when such amount is due. You should pay your bill by the due date stated on the bill.

What information must I provide for billing purposes?

All responsible parties are required to provide the following information to the billing office associated with MVP:

(1) The full legal name of the person or entity responsible for paying the bill;

(2) An adequate and correct address for mailing our bill; and

(3) The taxpayer identification number or social security number of the person or entity responsible for paying the bill.

Why are you collecting my taxpayer identification number or social security number?

Public Law 104-134, the Debt Collection Improvement Act of 1996, requires that we collect the taxpayer identification number or social security number before billing a responsible party and as a condition to servicing the account.

What can happen if I do not provide the information required for billing purposes?

We can refuse to provide you electrical service.

If I allow my bill to become past due, could this affect my electrical service?

Yes. 25 CFR 175.315(b) states: “If your bill is past due we may: (1) Disconnect your service; and (2) Not reconnect your service until your bill, including any applicable fees, is paid in full.” Specific regulations regarding non-payment can be found in 25 CFR 143.5(c).

Are there any additional charges if I am late paying my bill?

Yes. We are required to assess interest, penalties, and administrative costs on past due bills in accordance with 31 U.S.C. 3717 and 31 CFR 901.9.

What else will happen to my past due bill?

If you do not pay your bill or make payment arrangements to which we agree, we are required to transfer your past due bill to the Department of the Treasury for further action. Pursuant to 31 CFR 285.12, bills that are 120 days past due will be transferred to Treasury.

What electric power rates are proposed for adjustment by this notice?

The rate table below contains the present electric power rates for MVP. The table also contains proposed rates for 2024, 2025, and 2026. An asterisk immediately following the rate category notes where rates are proposed for adjustment.

Rate category | Present rate | Proposed 2024 rate | Proposed 2025 rate | Proposed 2026 rate
Residential (See Note #1)
Basic Charge per month * | $17.50 | $22.00 | $23.50 | $27.00
Basic Charge (Pre-Pay Meters) * | 21.00 | 26.40 | 28.20 | 32.40
Basic Charge (Net Meters) * | 20.00 | 27.00 | 28.50 | 32.00
Energy Charge:
Each kilowatt-hour between 0-1,000 * | 0.0812 | 0.0828 | 0.0880 | 0.0901
Each kilowatt-hour between 1,001-2,000 * | 0.0908 | 0.0926 | 0.0983 | 0.1007
Each kilowatt-hour over 2,000 * | 0.1126 | 0.1148 | 0.1219 | 0.1249
Demand charge per kilowatt * | 0.25 | 0.40 | 0.60 | 0.80
Small General Service (maximum monthly demand of 25 kilowatts or less) (See Note #1)
Basic Charge per month * | 17.50 | 22.00 | 23.50 | 27.00
Basic Charge (Pre-Pay Meters) * | 21.00 | 26.40 | 28.20 | 32.40
Basic Charge (Net Meters) * | 20.00 | 27.00 | 28.50 | 32.00
Energy charge per kilowatt-hour * | 0.1034 | 0.1046 | 0.1113 | 0.1136
Demand charge per kilowatt * | 0.30 | 0.50 | 0.75 | 1.00
General Service (monthly demand of 26—1,000 kilowatts) (See Note #1)
Basic charge per month:
Single Phase * | 32.50 | 40.75 | 43.50 | 50.00
Single Phase (Net Meters) * | 37.50 | 45.75 | 48.50 | 55.00
Three Phase * | 53.25 | 66.75 | 71.25 | 81.92
Three Phase (Net Meters) * | 61.50 | 75.00 | 79.50 | 90.17
Energy Charge per kilowatt-hour * | 0.0753 | 0.0761 | 0.0797 | 0.0797
Demand Charge per kilowatt * ^ | 4.50 | 5.00 | 5.25 | 5.75
New Large Single Load (monthly demand over one megawatt) (See Note #2)
Basic Charge per month | 45.00 | 45.00 | 45.00 | 45.00
Energy Charge:
Each kilowatt-hour between 0-730,000 | 0.0753 | 0.0753 | 0.0753 | 0.0753
Each kilowatt-hour over 730,000 | 0.06395 | 0.06395 | 0.06395 | 0.06395
Demand charge ^ Per kilowatt up to 1,000 Per kilowatt over 1,000 | 4.50 4.10 | 4.50 4.10 | 4.50 4.10 | 4.50 4.10
Area Lights
LED Light * | 10.05 | 12.57 | 13.43 | 15.43
Unmetered Services (See Note #3)
Basic Charge * | 17.50 | 22.00 | 23.50 | 27.00
Street Lighting (Metered)
Basic Charge * | 10.00 | 12.57 | 13.43 | 15.43
Energy Charge * | 0.1034 | 0.1046 | 0.1113 | 0.1136
Street Lighting (Unmetered)
LED Light * | 7.20 | 8.50 | 9.10 | 9.55
Irrigation (See Note #4)
Basic charge per month * | 5.00 | 10.00 | 15.00 | 20.00
Energy charge per kilowatt hour * | 0.0712 | 0.0719 | 0.0720 | 0.0746
Demand Charge per kilowatt * ‸ | 3.00 | 4.00 | 5.25 | 5.75
* Notes rate categories proposed for adjustment.
^ We may apply a power factor penalty to Irrigation, General Service—Three Phase, and New Large Single Load customers.
Note #1. Residential and Small General Service customers may opt into the “Pre-Pay Meters” or “Net Meters” programs. General Service customers may opt into the “Net Meters” program. For the Pre-Pay Meters program, customers must pre-pay a minimum of $50.00 fee at time of account setup. Any prepayment is credited to the account and applied to the customer's future usage and demand charges. Pre-Pay customers are required to keep a positive balance in their account, or the meter will shut off automatically. Net Metering allows customer-owned renewable generation to interconnect with MVP's distribution system.
Note #2. Customers with monthly demand of over three megawatts will be subject to other rates, as determined by MVP on a case-by case basis, and may be required to make a deposit of two months of estimated service.
Note #3. Unmetered Services refers to customers, using kilowatt hours without a meter, that do not fall under one of MVP's other rate categories. Includes traffic lights, billboards, and telephone booths.
Note #4. Irrigation customers may receive a Bonneville Power Administration (BPA) discount for the months of May through September. BPA generally provides an irrigation discount to assist the agricultural sector in rural Northwest communities. After BPA provides MVP with the final irrigation discount rate, we will issue the discount as an annual credit on qualified irrigation customers' bills.

Consultation and Coordination With Tribal Governments (Executive Order 13175)

The Department of the Interior strives to strengthen its government-to-government relationship with Indian Tribes through a commitment to consultation with Indian Tribes and recognition of their right to self-governance and Tribal sovereignty. We have evaluated this notice under the Department's consultation policy and under the criteria of Executive Order 13175 and have determined there to be substantial direct effects on federally recognized Tribes because the electric power utilities are located on or associated with Indian reservations. To fulfill its consultation responsibility to Tribes and Tribal organizations, BIA communicates, coordinates, and consults on a continuing basis with these entities on issues of electric power delivery, electric power availability, and costs of administration, operation, maintenance, and rehabilitation of our utilities that concern them. This is accomplished at the individual power utility by utility, agency, and regional representatives, as appropriate, in accordance with local protocol and procedures. This notice is one component of our overall coordination and consultation process to provide notice to, and request comments from, these entities when we adjust electric power rates.

Actions Concerning Regulations That Significantly Affect Energy Supply, Distribution, or Use (Executive Order 13211)

The proposed rate adjustments are not a significant energy action under the definition in Executive Order 13211. A Statement of Energy Effects is not required.

Civil Justice Reform (Executive Order 12988)

This notice complies with the requirements of Executive Order 12988. Specifically, in issuing this notice, the Department has taken the necessary steps to eliminate drafting errors and ambiguity, minimize potential litigation, and provide a clear legal standard for affected conduct as required by section 3 of Executive Order 12988.

Regulatory Planning and Review (Executive Order 12866)

These proposed rate adjustments are not a significant regulatory action and do not need to be reviewed by the Office of Management and Budget under Executive Order 12866.

Regulatory Flexibility Act

These proposed rate adjustments are not a rule for the purposes of the Regulatory Flexibility Act because they establish “a rule of particular applicability relating to rates.” 5 U.S.C. 601(2).

Takings (Executive Order 12630)

These proposed rate adjustments do not effect a taking of private property or otherwise have “takings” implications under Executive Order 12630. The proposed rate adjustments do not deprive the public, State, or local governments of rights or property.

Federalism (Executive Order 13132)

Under the criteria in section 1 of Executive Order 13132, these proposed rate adjustments do not have sufficient federalism implications to warrant the preparation of a federalism summary impact statement because they will not affect the States, the relationship between the national government and the States, or the distribution of power and responsibilities among the various levels of government. A federalism summary impact statement is not required.

National Environmental Policy Act

The Department has determined that these proposed rate adjustments do not constitute a major Federal action significantly affecting the quality of the human environment. A detailed statement under the National Environmental Policy Act of 1969 (NEPA) is not required because the proposed rate adjustments are of an administrative, financial, legal, technical, or procedural nature. (For further information see 43 CFR 46.210(i)). We have also determined that the proposed rate adjustments would not involve any of the extraordinary circumstances listed in 43 CFR 46.215 that would require further analysis under NEPA.

Paperwork Reduction Act of 1995

These proposed rate adjustments do not affect the collections of information which have been approved by the Office of Information and Regulatory Affairs, Office of Management and Budget (OMB) under the Paperwork Reduction Act of 1995. The OMB Control Number is 1076-0021 and expires March 31, 2026.

Unfunded Mandates Reform Act of 1995

These proposed rate adjustments do not impose an unfunded mandate on State, local, or Tribal governments in the aggregate, or on the private sector, of more than $130 million per year. They do not have a significant or unique effect on State, local, or Tribal governments or the private sector. Therefore, the Department is not required to prepare a statement containing the information required by the Unfunded Mandates Reform Act (2 U.S.C. 1531 et seq.).

Bryan Newland,
Assistant Secretary—Indian Affairs.

[FR Doc. 2024-26471 Filed 11-13-24; 8:45 am]

BILLING CODE 4337-15-P